ENVIRONMENTAL PROTECTION AGENCY

[ER-FRL-6699-7]

Environmental Impacts Statements; Notice of Availability

Responsible Agency: Office of Federal Activities, General Information (202) 564-7167 or http://www.epa.gov/compliance/nepa/.

Weekly receipt of Environmental Impact Statements

Filed 06/02/2008 Through 06/06/2008

Pursuant to 40 CFR 1506.9.

EIS No. 20080227, Second Draft Supplement, TPT, CA, Presidio Trust Management Plan (PTMP), Updated Information on the Concept for the 120-Acre Main Post District, Area B of the Presidio of San Francisco, Implementation, City and County of San Francisco, CA, Comment Period Ends: 07/31/2008, Contact: John G. Pelka 415-561-5300.

EIS No. 20080228, Draft EIS, AFS, WA, Republic Ranger Station Excess Residence Sale Project, Proposes to Sell a 0.72 Acre Parcel of Land with a Residential Building, Republic Ranger District, Colville National Forest, Ferry County, WA, Comment Period Ends: 07/28/2008, Contact: James L. Parker 509-775-7462.

EIS No. 20080229, Draft EIS, AFS, AK, Black River Exchange Project, Proposal to Exchange Federal and Non-Federal Lands, Apache-Sitgreaves National Forests, Apache County, AZ, Comment Period Ends: 07/28/2008, Contact: Bruce Buttrey 928-333-4372.

EIS No. 20080230, Draft EIS, COE, CA, Natomas Levee Improvement Project, Issuing of 408 Permission and 404 Permit, Sacramento Area Flood Control Agency, Sutter and Sacramento, CA, Comment Period Ends: 07/28/2008, Contact: Elizabeth G. Holland 916-557-6763.

EIS No. 20080231, Final EIS, FRC, 00, Bradwood Landing Project, Liquified Natural Gas Import Terminal and Natural Gas Pipeline Facilities, Construction and Operation, US Army COE Section 10 and 404 Permits, Clatsop County, OR and Cowlitz County, WA, Wait Period Ends: 07/14/2008, Contact: Patricia Schaub 1-866-208-3372.

EIS No. 20080232, Final EIS, AFS, CA, Orleans Community Fuels Reduction and Forest Health Project, To Manage Forest Stands to Reduce Hazardous Fuel Conditions, Orleans Ranger District, Six Rivers National Forest, Humboldt County, CA, Wait Period Ends: 07/14/2008, Contact: William Rice 530-627-3291.

EIS No. 20080233, Final EIS, NOA, 00, South Atlantic Snapper Grouper Fishery, Amendment 14 to Establish Eight Marine Protected Areas in Federal Waters, Implementation, South Atlantic Region, Wait Period Ends: 07/14/2008, Contact: Roy E. Crabtree 727-551-5305.

Amended Notices

EIS No. 20080171, Draft EIS, NOA, WA, Proposed Authorization of the Makah Indian Tribe's Request to Hunt Gray Whales in the Tribe's Usual and Accustomed Fishing Grounds off the Coast of Washington, Comment Period Ends: 08/15/2008, Contact: Donna Darm 206-526-6150. Revision to FR Notice Published 05/09/2008: Extending Comment Period from 07/08/2008 to 08/15/2008.

EIS No. 20080186, Draft EIS, FAA, NV, City of Mesquite, Proposed Replacement General Aviation Airport, Implementation, Clark County, NV, Comment Period Ends: 07/03/2008, Contact: Barry Franklin 650-876-2778 Revision to FR Notice Publish 05/16/2008: Extending Comment from 07/03/2008 to 07/18/2008.

Dated: June 10, 2008.
Robert W. Hargrove,
Director, NEPA Compliance Division, Office of Federal Activities.

[FR Doc. E8-13351 Filed 6-12-08; 8:45 am]

BILLING CODE 6560-50-P